DEPARTMENT OF ENERGY

Federal Energy Regulatory Commission

Combined Notice of Filings-2

Take notice that the Commission has received the following Natural Gas Pipeline Rate and Refund Report filings:

Filings Instituting Proceedings

Docket Numbers: RP16-91-000.

Applicants: Southern Star Central Gas Pipeline, Inc.

Description: Section 4(d) Rate Filing: Auction Procedures MBR Storage Filing to be effective 12/1/2015.

Filed Date: 10/29/15.

Accession Number: 20151029-5166.

Comments Due: 5 p.m. ET 11/10/15.

Docket Numbers: RP16-92-000.

Applicants: Questar Overthrust Pipeline Company.

Description: Section 4(d) Rate Filing: 26 Standards of Conduct to be effective 12/1/2015.

Filed Date: 10/29/15.

Accession Number: 20151029-5194.

Comments Due: 5 p.m. ET 11/10/15.

Docket Numbers: RP16-93-000.

Applicants: Equitrans, L.P.

Description: Compliance filing Operational Purchases and Sales Report for 2015.

Filed Date: 10/29/15.

Accession Number: 20151029-5200.

Comments Due: 5 p.m. ET 11/10/15.

Docket Numbers: RP16-94-000.

Applicants: Questar Pipeline Company.

Description: Section 4(d) Rate Filing: 23 Standards of Conduct to be effective 12/1/2015.

Filed Date: 10/29/15.

Accession Number: 20151029-5204.

Comments Due: 5 p.m. ET 11/10/15.

Docket Numbers: RP16-95-000.

Applicants: Questar Southern Trails Pipeline Company.

Description: Section 4(d) Rate Filing: 29 Standards of Conduct to be effective 12/1/2015.

Filed Date: 10/29/15.

Accession Number: 20151029-5205.

Comments Due: 5 p.m. ET 11/10/15.

Docket Numbers: RP16-96-000.

Applicants: Midwestern Gas Transmission Company.

Description: Compliance filing 2014-2015 Gas Sales and Purchases Report.

Filed Date: 10/29/15.

Accession Number: 20151029-5206.

Comments Due: 5 p.m. ET 11/10/15.

Docket Numbers: RP16-97-000.

Applicants: Destin Pipeline Company, L.L.C.

Description: Section 4(d) Rate Filing: Fuel Retention Adjustment Oct 2015 to be effective 12/1/2015.

Filed Date: 10/29/15.

Accession Number: 20151029-5219.

Comments Due: 5 p.m. ET 11/10/15.

Docket Numbers: RP16-98-000.

Applicants: Midwestern Gas Transmission Company.

Description: Compliance filing 2014-2015 Cashout Report.

Filed Date: 10/29/15.

Accession Number: 20151029-5238.

Comments Due: 5 p.m. ET 11/10/15.

Docket Numbers: RP16-99-000.

Applicants: Iroquois Gas Transmission System, L.P.

Description: Section 4(d) Rate Filing: 10/29/15 Negotiated Rates—Direct Energy Business Marketing, LLC (HUB) 7465-89 to be effective 11/1/2015.

Filed Date: 10/29/15.

Accession Number: 20151029-5253.

Comments Due: 5 p.m. ET 11/10/15.

Docket Numbers: RP16-100-000.

Applicants: Viking Gas Transmission Company.

Description: Compliance filing 2014-2015 Gas Sales and Purchases Report.

Filed Date: 10/29/15.

Accession Number: 20151029-5256.

Comments Due: 5 p.m. ET 11/10/15.

Docket Numbers: RP16-101-000.

Applicants: Alliance Pipeline L.P.

Description: Section 4(d) Rate Filing: November 1-30 2015 Auction to be effective 11/1/2015.

Filed Date: 10/29/15.

Accession Number: 20151029-5287.

Comments Due: 5 p.m. ET 11/10/15.

Docket Numbers: RP16-102-000.

Applicants: Stagecoach Pipeline & Storage Company, L.

Description: Section 4(d) Rate Filing: Stagecoach Pipeline & Storage Company LLC—Filing of New Baseline Tariff to be effective 10/29/2015.

Filed Date: 10/29/15.

Accession Number: 20151029-5312.

Comments Due: 5 p.m. ET 11/10/15.

Docket Numbers: RP16-103-000.

Applicants: Iroquois Gas Transmission System, L.P.

Description: Section 4(d) Rate Filing: 10/29/15 Negotiated Rates—Trafigura Trading LLC (HUB) 7445-89 to be effective 11/1/2015.

Filed Date: 10/29/15.

Accession Number: 20151029-5355.

Comments Due: 5 p.m. ET 11/10/15.

Docket Numbers: RP16-104-000.

Applicants: Stagecoach Pipeline & Storage Company, L.

Description: Tariff Cancellation: Stagecoach Pipeline & Storage Company LLC—Cancellation of Tariff to be effective 10/29/2015.

Filed Date: 10/29/15.

Accession Number: 20151029-5375.

Comments Due: 5 p.m. ET 11/10/15.

Docket Numbers: RP16-105-000.

Applicants: National Fuel Gas Supply Corporation.

Description: Section 4(d) Rate Filing: Non-Conforming (TGP) to be effective 11/1/2015.

Filed Date: 10/29/15.

Accession Number: 20151029-5461.

Comments Due: 5 p.m. ET 11/10/15.

Docket Numbers: RP16-106-000.

Applicants: Transcontinental Gas Pipe Line Company.

Description: Section 4(d) Rate Filing: Leidy Southeast Rate Filing to be effective 12/1/2015.

Filed Date: 10/29/15.

Accession Number: 20151029-5478.

Comments Due: 5 p.m. ET 11/10/15.

Docket Numbers: RP16-107-000.

Applicants: Iroquois Gas Transmission System, L.P.

Description: Section 4(d) Rate Filing: 10/29/15 Negotiated Rates—Cargill Incorporated (HUB) 3085-89 to be effective 11/1/2015.

Filed Date: 10/29/15.

Accession Number: 20151029-5502.

Comments Due: 5 p.m. ET 11/10/15.

Docket Numbers: RP16-108-000.

Applicants: Wyoming Interstate Company, L.L.C.

Description: Section 4(d) Rate Filing: FL&U Effective 12-1-15 to be effective 12/1/2015.

Filed Date: 10/29/15.

Accession Number: 20151029-5503.

Comments Due: 5 p.m. ET 11/10/15.

Docket Numbers: RP16-109-000.

Applicants: Iroquois Gas Transmission System, L.P.

Description: Section 4(d) Rate Filing: 10/29/15 Negotiated Rates—Mietco (HUB) 7080-89 to be effective 11/1/2015.

Filed Date: 10/29/15.

Accession Number: 20151029-5505.

Comments Due: 5 p.m. ET 11/10/15.

Docket Numbers: RP16-110-000.

Applicants: TransColorado Gas Transmission Company L.

Description: Section 4(d) Rate Filing: Firm Transportation Service Options Filing to be effective 11/1/2015.

Filed Date: 10/29/15.

Accession Number: 20151029-5539.

Comments Due: 5 p.m. ET 11/10/15.

Docket Numbers: RP16-111-000.

Applicants: Midcontinent Express Pipeline LLC.

Description: Section 4(d) Rate Filing: RP16-Fuel Tracking Filing to be effective 12/1/2015.

Filed Date: 10/29/15.

Accession Number: 20151029-5547.

Comments Due: 5 p.m. ET 11/10/15.

Docket Numbers: RP16-112-000.

Applicants: Transcontinental Gas Pipe Line Company.

Description: Section 4(d) Rate Filing: Maiden Lateral Surcharge Dec 2015 Update to be effective 12/1/2015.

Filed Date: 10/30/15.

Accession Number: 20151030-5064.

Comments Due: 5 p.m. ET 11/12/15.

Docket Numbers: RP16-113-000.

Applicants: Texas Gas Transmission, LLC.

Description: Section 4(d) Rate Filing: NC & Neg Rate Agmts (Atmos 21789, Anadarko 21939, Atmos 32658, Clarksdale 20393 to be effective 11/1/2015.

Filed Date: 10/30/15.

Accession Number: 20151030-5124.

Comments Due: 5 p.m. ET 11/12/15.

Docket Numbers: RP16-114-000.

Applicants: Trunkline Gas Company, LLC.

Description: Compliance filing Annual Interruptible Storage Revenue Credit filed on 10-30-15.

Filed Date: 10/30/15.

Accession Number: 20151030-5139.

Comments Due: 5 p.m. ET 11/12/15.

Docket Numbers: RP16-115-000.

Applicants: ETC Tiger Pipeline, LLC.

Description: Section 4(d) Rate Filing: Fuel Filing on 10-30-15 to be effective 12/1/2015.

Filed Date: 10/30/15.

Accession Number: 20151030-5140.

Comments Due: 5 p.m. ET 11/12/15.

Docket Numbers: RP16-116-000.

Applicants: Fayetteville Express Pipeline LLC.

Description: Section 4(d) Rate Filing: Fuel Filing on 10-30-15 to be effective 12/1/2015.

Filed Date: 10/30/15.

Accession Number: 20151030-5141.

Comments Due: 5 p.m. ET 11/12/15.

Docket Numbers: RP16-117-000.

Applicants: Enable Gas Transmission, LLC.

Description: Section 4(d) Rate Filing: Negotiated Rate Filing- November 2015 Devon 1009900 Removal to be effective 11/1/2015.

Filed Date: 10/30/15.

Accession Number: 20151030-5163.

Comments Due: 5 p.m. ET 11/12/15.

Docket Numbers: RP16-118-000.

Applicants: Golden Triangle Storage, Inc.

Description: Compliance filing Compliance Filing per Order on Petition for Declaratory Order Dkt. No. RP15-132 to be effective 12/15/2015.

Filed Date: 10/30/15.

Accession Number: 20151030-5169.

Comments Due: 5 p.m. ET 11/12/15.

Docket Numbers: RP16-119-000.

Applicants: Transcontinental Gas Pipe Line Company.

Description: Section 4(d) Rate Filing: Non-Conforming Agreements—Leidy Southeast to be effective 12/1/2015.

Filed Date: 10/30/15.

Accession Number: 20151030-5183.

Comments Due: 5 p.m. ET 11/12/15.

Docket Numbers: RP16-120-000.

Applicants: Southern LNG Company, L.L.C.

Description: Section 4(d) Rate Filing: SLNG Electric Power Cost Adjustment—2015 to be effective 12/1/2015.

Filed Date: 10/30/15.

Accession Number: 20151030-5189.

Comments Due: 5 p.m. ET 11/12/15.

Docket Numbers: RP16-121-000.

Applicants: Columbia Gas Transmission, LLC.

Description: Section 4(d) Rate Filing: OTRA—Winter 2015 to be effective 12/1/2015.

Filed Date: 10/30/15.

Accession Number: 20151030-5194.

Comments Due: 5 p.m. ET 11/12/15.

Docket Numbers: RP16-122-000.

Applicants: Columbia Gas Transmission, LLC.

Description: Section 4(d) Rate Filing: Tariff Clean-Up Filing to be effective 12/1/2015.

Filed Date: 10/30/15.

Accession Number: 20151030-5204.

Comments Due: 5 p.m. ET 11/12/15.

Docket Numbers: RP16-123-000.

Applicants: Transcontinental Gas Pipe Line Company.

Description: Section 4(d) Rate Filing: DPEs—Piedmont to be effective 12/1/2015.

Filed Date: 10/30/15.

Accession Number: 20151030-5215.

Comments Due: 5 p.m. ET 11/12/15.

Docket Numbers: RP16-124-000.

Applicants: Rockies Express Pipeline LLC.

Description: Section 4(d) Rate Filing: Neg Rate 2015-10-30 Encana to be effective 11/1/2015.

Filed Date: 10/30/15.

Accession Number: 20151030-5216.

Comments Due: 5 p.m. ET 11/12/15.

Docket Numbers: RP16-125-000.

Applicants: Iroquois Gas Transmission System, L.P.

Description: Section 4(d) Rate Filing: 10/30/15 Negotiated Rates—DTE Energy Trading, Inc. (HUB) 1830-89 to be effective 11/1/2015.

Filed Date: 10/30/15.

Accession Number: 20151030-5217.

Comments Due: 5 p.m. ET 11/12/15.

Docket Numbers: RP16-126-000.

Applicants: Iroquois Gas Transmission System, L.P.

Description: Section 4(d) Rate Filing: 10/30/15 Negotiated Rates—Freepoint Commodities LLC (HUB) 7250-89 to be effective 11/1/2015.

Filed Date: 10/30/15.

Accession Number: 20151030-5225.

Comments Due: 5 p.m. ET 11/12/15.

Docket Numbers: RP16-127-000.

Applicants: Texas Eastern Transmission, LP.

Description: Section 4(d) Rate Filing: ConEd NJNY Releases for 11-1-2015 to be effective 11/1/2015.

Filed Date: 10/30/15.

Accession Number: 20151030-5245.

Comments Due: 5 p.m. ET 11/12/15.

Docket Numbers: RP16-128-000.

Applicants: Algonquin Gas Transmission, LLC.

Description: Section 4(d) Rate Filing: BUG Ramapo Releases for 11-1-2015 to be effective 11/1/2015.

Filed Date: 10/30/15.

Accession Number: 20151030-5246.

Comments Due: 5 p.m. ET 11/12/15.

Docket Numbers: RP16-129-000.

Applicants: Algonquin Gas Transmission, LLC.

Description: Section 4(d) Rate Filing: ConEd Ramapo Releases for 11-1-2015 to be effective 11/1/2015.

Filed Date: 10/30/15.

Accession Number: 20151030-5247.

Comments Due: 5 p.m. ET 11/12/15.

Docket Numbers: RP16-130-000.

Applicants: Algonquin Gas Transmission, LLC.

Description: Section 4(d) Rate Filing: KeySpan Ramapo Releases for 11-1-2015 to be effective 11/1/2015.

Filed Date: 10/30/15.

Accession Number: 20151030-5248.

Comments Due: 5 p.m. ET 11/12/15.

Docket Numbers: RP16-131-000.

Applicants: Gulf South Pipeline Company, LP.

Description: Section 4(d) Rate Filing: Establish Fuel Tracker to be effective 4/1/2016.

Filed Date: 10/30/15.

Accession Number: 20151030-5251.

Comments Due: 5 p.m. ET 11/12/15.

Docket Numbers: RP16-132-000.

Applicants: Southern Star Central Gas Pipeline, Inc.

Description: Section 4(d) Rate Filing: Misc Tariff Filing October 2015 to be effective 12/1/2015.

Filed Date: 10/30/15.

Accession Number: 20151030-5287.

Comments Due: 5 p.m. ET 11/12/15.

Docket Numbers: RP16-133-000.

Applicants: Texas Eastern Transmission, LP.

Description: Section 4(d) Rate Filing: Negotiated Rate—SoJersey 11-1-2015 NJNY 8939244 to be effective 11/1/2015.

Filed Date: 10/30/15.

Accession Number: 20151030-5297.

Comments Due: 5 p.m. ET 11/12/15.

Docket Numbers: RP16-134-000.

Applicants: ANR Pipeline Company.

Description: Section 4(d) Rate Filing: Negotiated Rate Agmts to be effective 11/1/2015.

Filed Date: 10/30/15.

Accession Number: 20151030-5299.

Comments Due: 5 p.m. ET 11/12/15.

Docket Numbers: RP16-135-000.

Applicants: Northern Border Pipeline Company.

Description: Section 4(d) Rate Filing: PAL Flexibility Revisions to be effective 12/1/2015.

Filed Date: 10/30/15.

Accession Number: 20151030-5308.

Comments Due: 5 p.m. ET 11/12/15.

Docket Numbers: RP16-136-000.

Applicants: Northern Natural Gas Company.

Description: Petition of Northern Natural Gas Company for a Limited Waiver of Tariff Provisions and Request for Shortened Comment Period under RP16-136.

Filed Date: 10/30/15.

Accession Number: 20151030-5321.

Comments Due: 5 p.m. ET 11/6/15.

Docket Numbers: RP16-137-000.

Applicants: Tallgrass Interstate Gas Transmission, L.

Description: Section 4(d) Rate Filing: Section 4 Rate Case Filing (1 of 2) to be effective 5/1/2016.

Filed Date: 10/30/15.

Accession Number: 20151030-5356.

Comments Due: 5 p.m. ET 11/12/15.

Docket Numbers: RP16-138-000.

Applicants: Algonquin Gas Transmission, LLC.

Description: Section 4(d) Rate Filing: Negotiated Rates—SoJersey Ramapo 790822 to be effective 11/1/2015.

Filed Date: 10/30/15.

Accession Number: 20151030-5389.

Comments Due: 5 p.m. ET 11/12/15.

Docket Numbers: RP16-139-000.

Applicants: Tallgrass Interstate Gas Transmission, L.

Description: Section 4(d) Rate Filing: Neg Rate 2015/10/30 Nebraska Corn to be effective 11/1/2015.

Filed Date: 10/30/15.

Accession Number: 20151030-5421.

Comments Due: 5 p.m. ET 11/12/15.

Docket Numbers: RP16-140-000.

Applicants: Eastern Shore Natural Gas Company.

Description: Section 4(d) Rate Filing: Non-Conforming Contract No. 010153 to be effective 10/30/2015.

Filed Date: 10/30/15.

Accession Number: 20151030-5422.

Comments Due: 5 p.m. ET 11/12/15.

Docket Numbers: RP16-141-000.

Applicants: Natural Gas Pipeline Company of America.

Description: Section 4(d) Rate Filing: Removal of Expired Agreement to be effective 12/1/2015.

Filed Date: 10/30/15.

Accession Number: 20151030-5423.

Comments Due: 5 p.m. ET 11/12/15.

Docket Numbers: RP16-142-000.

Applicants: Algonquin Gas Transmission, LLC.

Description: Section 4(d) Rate Filing: Negotiated Rate—ConEdison Energy Ramapo 790737 to be effective 11/1/2015.

Filed Date: 10/30/15.

Accession Number: 20151030-5427.

Comments Due: 5 p.m. ET 11/12/15.

Docket Numbers: RP16-143-000.

Applicants: Algonquin Gas Transmission, LLC.

Description: Section 4(d) Rate Filing: Negotiated Rates—BP Energy 11-1-2015 Ramapo Releases to be effective 11/1/2015.

Filed Date: 10/30/15.

Accession Number: 20151030-5430.

Comments Due: 5 p.m. ET 11/12/15.

Docket Numbers: RP16-144-000.

Applicants: TransColorado Gas Transmission Company L.

Description: Section 4(d) Rate Filing: Non-Conforming Service Agreement (NMG) to be effective 11/1/2015.

Filed Date: 10/30/15.

Accession Number: 20151030-5433.

Comments Due: 5 p.m. ET 11/12/15.

Docket Numbers: RP16-145-000.

Applicants: Portland Natural Gas Transmission System.

Description: Section 4(d) Rate Filing: Freepoint Commodities Neg Rate Agmt to be effective 11/1/2015.

Filed Date: 10/30/15.

Accession Number: 20151030-5434.

Comments Due: 5 p.m. ET 11/12/15.

Docket Numbers: RP16-146-000.

Applicants: Alliance Pipeline L.P.

Description: Section 4(d) Rate Filing: Negotiated Rate Filing NSO December 1, 2015 to be effective 12/1/2015.

Filed Date: 10/30/15.

Accession Number: 20151030-5436.

Comments Due: 5 p.m. ET 11/12/15.

Docket Numbers: RP16-147-000.

Applicants: Northern Natural Gas Company.

Description: Section 4(d) Rate Filing: 20151030 Negotiated Rate to be effective 11/1/2015.

Filed Date: 10/30/15.

Accession Number: 20151030-5437.

Comments Due: 5 p.m. ET 11/12/15.

Docket Numbers: RP16-148-000.

Applicants: Texas Eastern Transmission, LP.

Description: Section 4(d) Rate Filing: TETLP ASA DEC 2015 FILING to be effective 12/1/2015.

Filed Date: 10/30/15.

Accession Number: 20151030-5438.

Comments Due: 5 p.m. ET 11/12/15.

Docket Numbers: RP16-149-000.

Applicants: Alliance Pipeline L.P.

Description: Section 4(d) Rate Filing: Tariff Waiver Adjustment Hess to be effective 12/1/2015.

Filed Date: 10/30/15.

Accession Number: 20151030-5442.

Comments Due: 5 p.m. ET 11/12/15.

Docket Numbers: RP16-150-000.

Applicants: Iroquois Gas Transmission System, L.P.

Description: Section 4(d) Rate Filing: 10/30/15 Negotiated Rates—Consolidated Edison Company of New York, Inc. to be effective 11/1/2015.

Filed Date: 10/30/15.

Accession Number: 20151030-5443.

Comments Due: 5 p.m. ET 11/12/15.

Docket Numbers: RP16-151-000.

Applicants: Alliance Pipeline L.P.

Description: Section 4(d) Rate Filing: New Services Offering Update to be effective 12/1/2015.

Filed Date: 10/30/15.

Accession Number: 20151030-5450.

Comments Due: 5 p.m. ET 11/12/15.

Docket Numbers: RP16-152-000.

Applicants: Columbia Gas Transmission, LLC.

Description: Columbia Gas Transmission, LLC submits Off System Capacity Request.

Filed Date: 10/30/15.

Accession Number: 20151030-5488.

Comments Due: 5 p.m. ET 11/12/15.

Docket Numbers: RP16-153-000.

Applicants: Apache Corporation, Navitas Midstream Midland Basin, LLC.

Description: Joint Petition for Temporary Waiver of Apache Corporation and Navitas Midstream Midland Basin, LLC under RP16-153.

Filed Date: 10/30/15.

Accession Number: 20151030-5493.

Comments Due: 5 p.m. ET 11/6/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-65-003.

Applicants: Gulf South Pipeline Company, LP.

Description: Compliance filing Motion to Place Interim Settlement Rates into Effect to be effective 11/1/2015.

Filed Date: 10/29/15.

Accession Number: 20151029-5024.

Comments Due: 5 p.m. ET 11/10/15.

Docket Numbers: RP15-1022-002.

Applicants: Alliance Pipeline L.P.

Description: Compliance filing Compliance Filing New Services Offering to be effective 12/1/2015.

Filed Date: 10/30/15.

Accession Number: 20151030-5431.

Comments Due: 5 p.m. ET 11/12/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2015.
Nathaniel J. Davis, Sr.,
Deputy Secretary.

[FR Doc. 2015-28397 Filed 11-6-15; 8:45 am]

BILLING CODE 6717-01-P